DEPARTMENT OF EDUCATION

Notice of Proposed Information Collection Requests

AGENCY: Department of Education.

SUMMARY: The IC Clearance Official, Regulatory Information Management Services, Office of Management, invites comments on the proposed information collection requests as required by the Paperwork Reduction Act of 1995.

DATES: Interested persons are invited to submit comments on or before September 17, 2007.

SUPPLEMENTARY INFORMATION: Section 3506 of the Paperwork Reduction Act of 1995 (44 U.S.C. Chapter 35) requires that the Office of Management and Budget (OMB) provide interested Federal agencies and the public an early opportunity to comment on information collection requests. OMB may amend or waive the requirement for public consultation to the extent that public participation in the approval process would defeat the purpose of the information collection, violate State or Federal law, or substantially interfere with any agency's ability to perform its statutory obligations. The IC Clearance Official, Regulatory Information Management Services, Office of Management, publishes that notice containing proposed information collection requests prior to submission of these requests to OMB. Each proposed information collection, grouped by office, contains the following: (1) Type of review requested, e.g. new, revision, extension, existing or reinstatement; (2) Title; (3) Summary of the collection; (4) Description of the need for, and proposed use of, the information; (5) Respondents and frequency of collection; and (6) Reporting and/or Recordkeeping burden. OMB invites public comment.

The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology.

Dated: July 12, 2007.
Angela C. Arrington,
IC Clearance Official, Regulatory Information Management Services, Office of Management.

Institute of Education Sciences

Type of Review: New.

Title: The Effects of a Hybrid Secondary School Course in Algebra 1 on Teacher Practices, Classroom Quality and Adolescent Learning.

Frequency: Annually.

Affected Public: Individuals or household; Businesses or other for-profit; Not-for-profit institutions; Federal Government; State, Local, or Tribal Government, SEAs or LEAs.

Reporting and Recordkeeping Hour Burden:

Responses: 10,900

Burden Hours: 1,705

Abstract: Algebra I has emerged in recent years as a critical gatekeeper course, necessary to prepare students for the rigorous mathematics curriculum required for high school graduation and successful postsecondary experiences. Therefore, providing Algebra I teachers with the very best resources and professional development to ensure effective instruction has become a priority in Kentucky and across the nation. This research study is designed to test, through a rigorous experimental design, an approach that combines online and technology enhanced instruction with face-to-face classroom instruction to address this need. This hybrid or “blended” approach has shown promising results in Kentucky and elsewhere. Teachers who receive the intervention in this study will apply the hybrid approach using the Kentucky Virtual High School's (KVHS) online course curriculum in Algebra I. They will be supported by extensive professional development in hybrid instruction and research-based practices for teaching Algebra I. The KVHS course is fully aligned with national and new state standards for Algebra instruction. The results on improved instructional practices, classroom quality, and student learning will be compared to those in control sites in which Algebra I instruction will continue as it has with traditional classroom instruction. Participating schools will be randomly assigned to either an intervention group or a control group in Spring 2008 and participating teachers will assume the intervention or control status assigned to their school. Baseline data collection for both intervention and control groups will begin in the fall of 2008, and continue each semester through spring 2010. Participating teachers in the intervention schools will begin professional development in May 2008, and will continue with the facilitated face-to-face on online support of a master teacher as they implement the intervention in 2008-2009. Teachers will continue to have access to all of the online resources for instruction in 2009-2010, as well as on-demand support for KVHS. Results of the study will be made available following a technical review by the U.S. Department of Education, Institute of Education Sciences.

Requests for copies of the proposed information collection request may be accessed from http://edicsweb.ed.gov, by selecting the “Browse Pending Collections” link and by clicking on link number 3411. When you access the information collection, click on “Download Attachments” to view. Written requests for information should be addressed to U.S. Department of Education, 400 Maryland Avenue, SW., Potomac Center, 9th Floor, Washington, DC 20202-4700. Requests may also be electronically mailed to ICDocketMgr@ed.gov or faxed to 202-245-6623. Please specify the complete title of the information collection when making your request.

Comments regarding burden and/or the collection activity requirements should be electronically mailed to ICDocketMgr@ed.gov. Individuals who use a telecommunications device for the deaf (TDD) may call the Federal Information Relay Service (FIRS) at 1-800-877-8339.

[FR Doc. E7-13987 Filed 7-18-07; 8:45 am]

BILLING CODE 4000-01-P